DEPARTMENT OF COMMERCE

International Trade Administration

[A-201-836]

Light-Walled Rectangular Pipe and Tube From Mexico: Final Results of Antidumping Duty Administrative Review; 2016-2017

AGENCY: Enforcement and Compliance, International Trade Administration, Department of Commerce.

SUMMARY: The Department of Commerce (Commerce) determines that Maquilacero S.A. de C.V. (Maquilacero) and Regiomontana de Perfiles y Tubos S.A. de C.V. (Regiopytsa) made sales of light-walled rectangular pipe and tube (LWRPT) from Mexico at prices below normal value during the period of review (POR) August 1, 2016, through July 31, 2017.

DATES: Applicable April 22, 2019.

FOR FURTHER INFORMATION CONTACT: Madeline Heeren and Kent Boydston, AD/CVD Operations, Office VI, Enforcement and Compliance, International Trade Administration, U.S. Department of Commerce, 1401 Constitution Avenue NW, Washington, DC 20230; telephone: (202) 482-9179 and (202) 482-5649, respectively.

SUPPLEMENTARY INFORMATION:

Background

On September 6, 2018, Commerce published the Preliminary Results.¹ On December 17, 2018, Commerce extended the final results deadline until March 5, 2019.² In addition, Commerce exercised its discretion to toll all deadlines affected by the partial federal government closure from December 22, 2018, through the resumption of operations on January 29, 2019. If the new deadline falls on a non-business day, in accordance with Commerce's practice, the deadline will become the next business day. Accordingly, the deadline for the final results of this review was revised to April 15, 2019.³

¹ See Light-Walled Rectangular Pipe and Tube from Mexico: Preliminary Results of Antidumping Duty Administrative Review; 2016-2017, 83 FR 45211 (September 8, 2018) and accompanying Preliminary Decision Memorandum (Preliminary Results).

² See Letter, “Light-Walled Rectangular Pipe and Tube from Mexico: Extension of Deadline for Final Results of Antidumping Duty Administrative Review,” dated December 17, 2018.

³ See Memorandum to the file from Gary Taverman, Deputy Assistant Secretary for Antidumping and Countervailing Duty Operations, performing the non-exclusive functions and duties of the Assistant Secretary for Enforcement and Compliance regarding “Deadlines Affected by the Partial Shutdown of the Federal Government,” dated January 28, 2019. All deadlines in this segment of the proceeding have been extended by 40 days.

A summary of the events that occurred since Commerce published these results, as well as a full discussion of the issues raised by parties for these final results, may be found in the Issues and Decision Memorandum, which is hereby adopted by this notice.⁴

⁴ See Memorandum, “Issues and Decision Memorandum for the Final Results of the Administrative Review of the Antidumping Duty Order on Light-Walled Rectangular Pipe and Tube from Mexico; 2016-2017,” dated concurrently with this notice (Issues and Decision Memorandum).

Scope of the Order

The products covered by the scope of the order are certain light-walled rectangular pipe and tube from Mexico. For a complete description of the scope, see the Issues and Decision Memorandum.

Analysis of Comments Received

All issues raised in the case and rebuttal briefs by parties to this administrative review are addressed in the Issues and Decision Memorandum, which is hereby adopted by this notice. A list of the issues raised is attached to this notice as an Appendix. The Issues and Decision Memorandum is a public document and is on-file electronically via Enforcement and Compliance's Antidumping and Countervailing Duty Centralized Electronic Service System (ACCESS). ACCESS is available to registered users at https://access.trade.gov and in the Central Records Unit (CRU), room B8024 of the main Department of Commerce building. In addition, a complete version of the Issues and Decision Memorandum can be accessed directly at http://enforcement.trade.gov/frn/index.html. The signed Issues and Decision Memorandum and the electronic version of the memorandum are identical in content.

Changes Since the Preliminary Results

Based on our review of the record and comments received from interested parties, we made certain revisions to the preliminary margin calculations for Maquilacero and Regiopytsa. The Issues and Decision Memorandum contains a description of these revisions.⁵

⁵ See Issues and Decision Memorandum at 4-5; see also Memoranda, “Analysis Memorandum for Maquilacero S.A. de C.V. in the Final Results of the 2016/2017 Administrative Review of the Antidumping Duty Order on Light-Walled Rectangular Pipe and Tube from Mexico,” and “Analysis Memorandum for Regiomontana de Perfiles y Tubos, S.A. de C.V. in the Final Results of the 2016/2017 Administrative Review of the Antidumping Duty Order on Light-Walled Rectangular Pipe and Tube from Mexico,” both dated concurrently with this notice.

Final Results of the Review

The final weighted-average dumping margins for the exporters or producers listed below are as follows: ⁶

⁶ For Perfiles y Herrajes LM, S.A. de C.V and Productos Laminados de Monterrey S.A. de C.V. which were not selected for individual review, we assigned a rate based on the rates for the respondents that were selected for individual review, excluding rates that are zero, de minimis or based entirely on facts available. See section 735(c)(5)(A) of the Act.

Producer/exporter | Weighted- average margin (percent)
Maquilacero S.A. de C.V. | 17.65
Perfiles y Herrajes LM, S.A. de C.V.⁷ | 12.78
Productos Laminados de Monterrey S.A. de C.V. | 12.78
Regiomontana de Perfiles y Tubos S.A. de C.V. | 8.32

Disclosure

We will disclose the calculations performed to parties in this proceeding within five days of the date of publication of this notice, in accordance with 19 CFR 351.224(b).

⁷See Light-Walled Rectangular Pipe and Tube from Mexico: Initiation and Expedited Preliminary Results of Changed Circumstances Review, 82 FR 54322 (November 17, 2017) and accompanying Preliminary Decision Memorandum, unchanged in Light-Walled Rectangular Pipe and Tube from Mexico: Final Results of Changed Circumstances Review, 83 FR 13475 (March 29, 2018) (Commerce determined that Perfiles LM, S.A. de C.V. is the successor-in-interest to Perfiles y Herrajes, S.A. de C.V.).

Duty Assessment

Pursuant to section 751(a)(2)(C) of the Tariff Act of 1930, as amended (the Act), and 19 CFR 351.212(b)(1), Commerce will determine, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

For entries of subject merchandise during the POR produced by each respondent for which it did not know its merchandise was destined for the United States, we will instruct CBP to liquidate unreviewed entries at the all-others rate if there is no rate for the intermediate company(ies) involved in the transaction.

We intend to issue liquidation instructions to CBP 41 days after publication of the final results of this review.

Cash Deposit Requirements

The following cash deposit requirements will be effective upon publication of the notice of final results of administrative review for all shipments of subject merchandise entered, or withdrawn from warehouse, for consumption on or after the date of publication, as provided by section 751(a)(2) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 3.76 percent, the all-others rate established in the investigation.⁸ These cash deposit requirements, when imposed, shall remain in effect until further notice.

⁸ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008).

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h) and 351.221(b)(5).

Dated: April 15, 2019.
Jeffrey I. Kessler,
Assistant Secretary for Enforcement and Compliance.

Appendix—List of Topics Discussed in the Final Issues and Decision Memorandum

I. Summary

II. List of Issues

III. Background

IV. Scope of the Order

V. Changes Since the Preliminary Results

VI. Discussion of the Issues

A. General Issues

Comment 1: Rate for Non-Examined Respondents

B. Maquilacero-Specific Issues

Comment 2: Non-Subject Merchandise

Comment 3: Level of Trade

Comment 4: Scrap Offset

Comment 5: Transactions Disregarded Rule

Comment 6: General and Administrative Expense Adjustment

Comment 7: Amended Draft Liquidation Instructions

C. Regiopytsa-Specific Issues

Comment 8: Ministerial Error

Comment 9: Cost Reconciliation Adjustment

Comment 10: Revised Scrap Adjustment

Comment 11: Interest Expense Ratio

VII. Recommendation

[FR Doc. 2019-08002 Filed 4-19-19; 8:45 am]

BILLING CODE 3510-DS-P